DEPARTMENT OF HEALTH AND HUMAN SERVICES

Centers for Disease Control and Prevention

[30DAY-12-03]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: A and B Reader Surveys—New—National Institute for Occupational Safety and Health (NIOSH), Centers for Disease Control and Prevention (CDC). Since 1970, under the U.S. Code of Federal Regulations (42 CFR part 37), screening chest radiographic examinations have been provided to underground miners at approximate five-year intervals. As part of the mandated Coal Workers' X-ray Surveillance Program (CWXSP), the NIOSH B Reader Program requires x-ray classification by physicians who have demonstrated proficiency in the International Labour Office (ILO) radiographic classification system.

Competence in the ILO system is demonstrated by physicians who have completed a NIOSH approved educational seminar (A Reader) or have passed the NIOSH B Reader certification examination (B Reader). The ILO has recently completed a revision of its radiographic classification system (ILO 2000) that will soon be published. As a result, modifications of the B Reader examinations and related training activities and materials will be needed. These revisions provide an opportunity to evaluate the current B Reader Program by surveying A and B Readers. The survey responses from these physicians will be used to develop a workshop agenda and contract specifications to improve the B Reader Program. The annual burden for this data collection is 617 hours.

Respondents | Number of respondents | Number of responses/respondent | Avg. burden/response (in hrs.)
Physicians/B Reader | 531 | 1 | 10/60
Physicians/Former B Reader | 333 | 1 | 10/60
Physicians/A Reader | 2834 | 1 | 10/60

Dated: December 9, 2002.
Nancy E. Cheal,
Acting Associate Director for Policy, Planning and Evaluation, , Centers for Disease Control and Prevention.

[FR Doc. 02-31417 Filed 12-12-02; 8:45 am]

BILLING CODE 4163-18-P